DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Florida:
Charlotte (FEMA Docket No. D-7569) | Unincorporated Areas | January 27, 2005; February 3, 2005; Sun Herald | Mr. Bruce A. Loucks, Charlotte County Administrator, Charlotte County Administration Building, 18500 Murdock Circle, Port Charlotte, Florida 33948 | January 20, 2005 | 120061 F
Sarasota (FEMA Docket No. D-7567) | City of Sarasota | January 14, 2005; January 21, 2005; Sarasota Herald-Tribune | Mr. Michael A. McNees, Sarasota City Manager, 1565 First Street, Room 101, Sarasota, Florida 34236 | January 7, 2005; | 125150 B
Georgia: Richmond (FEMA Docket No. D-7569) | City of Augusta | February 10, 2005; February 17, 2005; The Augusta Chronicle | The Honorable Robert Young, Mayor of the City of Augusta, City-County Building, 530 Greene Street, Augusta, Georgia 30911 | May 19, 2005 | 130159
Massachusetts:
Barnstable (FEMA Docket No. D-7569) | Town of Chatham | February 3, 2005; February 10, 2005; Cape Cod Times | Mr. William G. Hinchey, Chatham Town Manager, 549 Main Street, Chatham, Massachusetts 02633 | January 27, 2005 | 250004 D
Norfolk (FEMA Docket No. D-7567) | Town of Foxborough | January 19, 2005; January 26, 2005; Foxboro Report | Mr. Robert Hickey, Chairman of the Town of Foxborough, Board of Selectmen, 40 South Street, Foxborough, Massachusetts 02035 | January 12, 2005 | 250239 B
Minnesota: Hennepin (FEMA Docket No. D-7569) | City of Minneapolis | January 21, 2005; January 28, 2005; Star-Tribune | The Honorable R. T. Ryback, Mayor of the City of Minneapolis, Minneapolis City Hall, 350 South Fifth Street, Room 331, Minneapolis, Minnesota 55415 | January 11, 2005 | 270172 E
North Carolina: Haywood (FEMA Docket No. D-7567) | Unincorporated Areas | January 10, 2005; January 17, 2005; The Mountaineer | Mr. Jack Horton, Haywood County Manager, 215 North Main Street, Waynesville, North Carolina 28786 | April 18, 2005 | 370120 B
South Carolina:
Berkeley (FEMA Docket No. D-7569) | Unincorporated Areas | February 3, 2005; February 10, 2005; The Post and Courier | Mr. Jim Rozier, Chairman of the Berkeley, County Council, 223 North Live Oak Drive, Moncks Corner, South Carolina 29461 | May 12, 2005 | 450029 D
Berkeley (FEMA Docket No. D-7569) | City of Goose Creek | February 3, 2005; February 10, 2005; The Post and Courier | The Honorable Michael J. Heitzler, Mayor of the City of Goose Creek, 519 North Goose Creek Boulevard, Goose Creek, South Carolina 29445 | May 12, 2005 | 450206 D
Richland (FEMA Docket No. D-7569) | Unincorporated Areas | December 9, 2004; December 16, 2004; The State | Mr. T. Cary McSwain, Richland County Administrator, 2020 Hampton Street, Room 4058, P.O. Box 192, Columbia, South Carolina 29202 | March 16, 2005 | 450170 G
Virginia: Fairfax (FEMA Docket No. D-7571) | Unincorporated Areas | March 14, 2005; March 21, 2005; The Washington Times | Mr. Anthony H. Griffin, Fairfax County Executive, 12000 Government Center Parkway, Suite 552, Fairfax, Virginia 22035-0050 | April 4, 2005 | 515525 D
West Virginia: Mingo (FEMA Docket No. D-7569) | Unincorporated Areas | February 28, 2005; March 7, 2005; The Williamson Daily News | Mr. Jim Hatfield, President of the Mingo Board of Commissioners, P.O. Box 1197, Williamson, West Virginia 25661 | November 16, 2004 | 540133 C

(Catalog of Federal Domestic Assistance No. 83.100, “Flood Insurance.”)

Dated: August 23, 2005.
David I. Maurstad,
Acting Director, Mitigation Division, Emergency Preparedness and Response Directorate.

[FR Doc. 05-17626 Filed 9-2-05; 8:45 am]

BILLING CODE 9110-12-P